DEPARTMENT OF ENERGY

Federal Energy Regulatory Commission

[Project No. 15411-000]

Renewable Energy Aggregators, Inc.; Notice of Preliminary Permit Application Accepted for Filing and Soliciting Comments, Motions To Intervene, and Competing Applications

On July 23, 2025, Renewable Energy Aggregators, Inc., filed an application for a preliminary permit, pursuant to section 4(f) of the Federal Power Act (FPA), proposing to study the feasibility of the Old Forge Bore Hole Pumped Storage Hydro Project to be located in Luzerne and Lackawanna Counties, Pennsylvania. The sole purpose of a preliminary permit, if issued, is to grant the permit holder priority to file a license application during the permit term. A preliminary permit does not authorize the permit holder to perform any land-disturbing activities or otherwise enter upon lands or waters owned by others without the owners' express permission.

The proposed project would consist of the following: (1) a new upper reservoir with a storage capacity of 2,042 acre-feet at a surface elevation of approximately 1,513 feet North American Vertical Datum of 1988 (NAVD88) created through construction of a combination of earthen or concrete dam/dike with a preferred approach of reusing as much of the excavated material as possible; (2) a new lower reservoir with a storage capacity of 2,026 acre-feet at a surface elevation of 604 feet NAVD88; (3) two new 9,110-foot-long, 12.5- to 10.25-foot-diameter buried penstocks connecting the upper and lower reservoirs; (4) a new underground 200-foot-long, 150-foot-wide powerhouse containing two turbine-generator units with a total rated capacity of 184 megawatts; (5) a new 1.2-mile-long, 230-kilovolt transmission line connecting the powerhouse to a nearby electric grid interconnection point; and (6) appurtenant facilities. Possible initial fill water and make-up water would come from an acid mine drainage water treatment facility. The proposed project would have an annual generation of 671,600 megawatt-hours.

Applicant Contact: Adam Rousselle, Renewable Energy Aggregators, Inc., 2113 Middle Street, Suite 201, Sullivans Island, SC 29482; phone: 267-254-6107.

FERC Contact: Monir Chowdhury; phone: (202) 502-6736.

Deadline for filing comments, motions to intervene, competing applications (without notices of intent), or notices of intent to file competing applications: on or before 5:00 p.m. Eastern Time on March 16, 2026. Competing applications and notices of intent must meet the requirements of 18 CFR 4.36.

The Commission strongly encourages electronic filing. Please file comments, motions to intervene, notices of intent, and competing applications using the Commission's eFiling system at https://ferconline.ferc.gov/FERCOnline.aspx. Commenters can submit brief comments up to 10,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852.

For public inquiries and assistance with making filings such as interventions, comments, or requests for rehearing, contact the Office of Public Participation at (202) 502-6595 or OPP@ferc.gov.

More information about this project, including a copy of the application, can be viewed or printed on the “eLibrary” link of the Commission's website at https://elibrary.ferc.gov/eLibrary/search. Enter the docket number (P-15411) in the docket number field to access the document. For assistance, contact FERC Online Support.

Dated: January 15, 2026.
Debbie-Anne A. Reese,
Secretary.

[FR Doc. 2026-01074 Filed 1-20-26; 8:45 am]

BILLING CODE 6717-01-P